DEPARTMENT OF AGRICULTURE

Agricultural Marketing Service

7 CFR Part 52

[Doc. No. AMS-FV-08-0076]

United States Standards for Grades of Frozen Onions

AGENCY: Agricultural Marketing Service, USDA.

ACTION: Reopening of comment period.

SUMMARY: Notice is hereby given that the Agricultural Marketing Service (AMS) is reopening the comment period for the document inviting comments on a proposal to create new United States Standards for Grades of Frozen Onions and request for comments published in the Federal Register on November 23, 2016. The comment period for this document closed on January 23, 2017. The grade standards would provide a common language for trade, a means of measuring value in the marketing of frozen onions, and guidance on the effective use of frozen onions.

DATES: AMS is reopening the comment period for the proposed rule published November 23, 2016 (81 FR 84506). Comments must be received by April 3, 2017.

ADDRESSES: Interested persons are invited to submit comments on the notice via the Internet at: http://www.regulations.gov. Comments may also be submitted by email to Brian.Griffin@ams.usda.gov; by mail to Brian E. Griffin, Standardization Branch, Specialty Crops Inspection Division, AMS, USDA, 1400 Independence Avenue SW., STOP 0247, Washington, DC 20250-0247; and via fax to (202) 690-1527. All comments should reference the document number, dates, and page numbers of this issue and the November 23, 2016, issue of the Federal Register. All comments received will be posted online without change, including any personal information provided, and will be made available for public inspection at the above physical address during regular business hours.

FOR FURTHER INFORMATION CONTACT: Brian E. Griffin, Agricultural Marketing Specialist, Specialty Crops Inspection Division, Specialty Crops Program, AMS, USDA; telephone: (202) 720-5021, fax (202) 690-1527, or email Brian.Griffin@ams.usda.gov.

SUPPLEMENTARY INFORMATION: A document regarding proposed new United States Standards for Grades of Frozen onions was published in the Federal Register on November 23, 2016 (81 FR 84506). The proposed standards were developed at the request of the frozen food industry and reflect the industry's extensive input. The standards would establish a frozen onion product description, designate various product styles, provide the criteria for various grade levels of frozen onions, and describe tolerance limits for defects.

The 60-day comment period provided in the previously published proposed rule closed January 23, 2017. The comment period is reopened until April 3, 2017. AMS is reopening the public comment period for 30 days to ensure that interested persons have sufficient time to review and comment on the document.

Authority: 7 U.S.C. 1621-1627.

Dated: February 27, 2017.
Bruce Summers,
Acting Administrator, Agricultural Marketing Service.

[FR Doc. 2017-04079 Filed 3-2-17; 8:45 am]

BILLING CODE 3410-02-P